Title 3—

The President

Proclamation 10329 of December 28, 2021

Revoking Proclamation 10315

By the President of the United States of America

A Proclamation

On November 26, 2021, the World Health Organization (WHO) Technical Advisory Group on SARS-CoV-2 Virus Evolution announced that the B.1.1.529 (Omicron) variant of SARS-CoV-2, the virus that causes coronavirus disease 2019 (COVID-19), constitutes a variant of concern. The WHO further reported that the number of cases of this variant appeared to be increasing in almost all provinces in the Republic of South Africa. On the same day that the WHO classified the Omicron variant as a variant of concern, and based on the recommendation of the Centers for Disease Control and Prevention (CDC), within the Department of Health and Human Services, I issued Proclamation 10315 of November 26, 2021 (Suspension of Entry as Immigrants and Nonimmigrants of Certain Additional Persons Who Pose a Risk of Transmitting Coronavirus Disease 2019). That proclamation generally suspended and restricted the entry into the United States of noncitizens of the United States (“noncitizens”) who were physically present within the Republic of Botswana, the Kingdom of Eswatini, the Kingdom of Lesotho, the Republic of Malawi, the Republic of Mozambique, the Republic of Namibia, the Republic of South Africa, and the Republic of Zimbabwe during the 14-day period preceding their entry or attempted entry into the United States. I took that action to slow the spread of the Omicron variant into the United States and to enable the United States to implement appropriate mitigation measures while new information emerged about the variant.

Having learned more about the Omicron variant in the past several weeks, the CDC now recommends lifting the travel restrictions imposed in Proclamation 10315. Since I issued that proclamation, our Nation's health officials, in collaboration with the South African scientists who originally reported the variant, have made substantial progress in understanding the Omicron variant. Importantly, scientific experts have determined that people who are vaccinated against COVID-19 are protected against severe disease and hospitalization from the Omicron variant. Moreover, the Omicron variant has now spread to more than 100 countries, and it is prevalent in the United States. At the same time, my Administration has made international travel to the United States from all countries safer in the time since I issued Proclamation 10315. In particular, the CDC has shortened the timeline for required pre-departure COVID-19 testing for fully vaccinated travelers from no more than 3 days prior to travel to no more than 1 day. As a result, international air travelers to the United States from all countries, regardless of citizenship or vaccination status, must take a COVID-19 test within 1 day of departure and show a negative test result before they board a flight to the United States. That requirement has strengthened the already stringent international travel protocols that my Administration has imposed, including requirements for noncitizens to be fully vaccinated, subject to limited exceptions, and for travelers to wear face masks on commercial conveyances and at United States transportation hubs.

In light of these changed circumstances, and based on the recommendation of the CDC, I have determined that it is in the interests of the United States to revoke Proclamation 10315. The travel restrictions imposed by that proclamation are no longer necessary to protect the public health.

NOW, THEREFORE, I, JOSEPH R. BIDEN JR., President of the United States, by the authority vested in me by the Constitution and the laws of the United States of America, including sections 212(f) and 215(a) of the Immigration and Nationality Act, 8 U.S.C. 1182(f) and 1185(a), hereby find that, except as provided in Proclamation 10294 of October 25, 2021 (Advancing the Safe Resumption of Global Travel During the COVID-19 Pandemic), or any other applicable proclamation, the unrestricted entry into the United States of persons described in section 1 of Proclamation 10315 is no longer detrimental to the interests of the United States. I therefore hereby proclaim the following:

Section 1. Revocation. Proclamation 10315 is revoked.

Sec. 2. Review of Agency Actions. The Secretary of State, the Secretary of Transportation, and the Secretary of Homeland Security shall review any regulations, orders, guidance documents, policies, and any other similar agency actions developed pursuant to Proclamation 10315 and, as appropriate, shall consider revising or revoking these agency actions consistent with the policy set forth in this proclamation.

Sec. 3. Effective Date. This proclamation is effective at 12:01 a.m. eastern standard time on December 31, 2021.

Sec. 4. General Provisions. (a) Nothing in this proclamation shall be construed to impair or otherwise affect:

(i) the authority granted by law to an executive department or agency, or the head thereof; or

(ii) the functions of the Director of the Office of Management and Budget relating to budgetary, administrative, or legislative proposals.

(b) This proclamation shall be implemented consistent with applicable law and subject to the availability of appropriations.

(c) This proclamation is not intended to, and does not, create any right or benefit, substantive or procedural, enforceable at law or in equity by any party against the United States, its departments, agencies, or entities, its officers, employees, or agents, or any other person.

IN WITNESS WHEREOF, I have hereunto set my hand this twenty-eighth day of December, in the year of our Lord two thousand twenty-one, and of the Independence of the United States of America the two hundred and forty-sixth.

[FR Doc. 2021-28534

Filed 12-30-21; 11:15 am]

Billing code 3395-F2-P